DEPARTMENT OF HOUSING AND URBAN DEVELOPMENT

[Docket No. FR-4558-N-12]

Mortgagee Review Board Administrative Actions

AGENCY: Office of the Assistant Secretary for Housing—Federal Housing Commissioner, HUD.

ACTION: Notice.

SUMMARY: In compliance with section 202(c) of the National Housing Act, this notice advises the public of the cause and description of certain administrative actions taken by HUD's Mortgagee Review Board against HUD-approved mortgagees. This notice of administrative actions relates solely to the failure of title I lenders and title II mortgagees to submit the required audited annual financial statement, an acceptable annual audited financial statement and/or payment of the annual recertification fee.

FOR FURTHER INFORMATION CONTACT: Phillip A. Murray, Director, Office of Lender Activities and Program Compliance, Room B-133-3214 L'Enfant Plaza, 451 Seventh Street, SW., Washington, DC 20410, telephone: (202) 708-1515. (This is not a toll-free number.) A Telecommunications Device for Hearing- and Speech-Impaired Individuals (TTY) is available at 1-800-877-8339 (Federal Information Relay Service).

SUPPLEMENTARY INFORMATION: Section 202(c)(5) of the National Housing Act (added by section 142 of the Department of Housing and Urban Development Reform Act of 1989, Pub. L. 101-235, approved December 15, 1989), requires that HUD publish a description of and the cause for administrative actions against a HUD-approved mortgagee by the Department's Mortgagee Review Board. In compliance with the requirements of section 202(c)(5), this notice advises the public of administrative actions that have been taken by the Mortgagee Review Board from April 1, 2002, through September 30, 2002, related to the failure of title I lenders and title II mortgagees to submit the required audited annual financial statement, an acceptable annual audited financial statement and/or payment of the annual recertification fee.

Action: Withdrawal of HUD/FHA title I lender approval and title II mortgagee approval.

Cause: Failure to submit to the Department the required annual audited financial statement, an acceptable annual audited financial statement, and/or remit the required annual recertification fee.

Name | City | State
251 Title 1 Lenders and Loan Correspondents Terminated Between April 1, 2002, and September 30, 2002
A MIRACLE MORTGAGE INC | PORTLAND | OR
ABERDEEN FEDERAL CREDIT UNION | ABERDEEN | SD
ACADEMY BANK | LEBANON | TN
ACE MORTGAGE LLC | SALT LAKE CITY | UT
AFFILIATED BANC CORP | SCHAUMBURG | IL
AFFORDABLE HOME LOANS INC | SAN BERNARDINO | CA
ALL KERN FINANCIAL CORPORATION | BAKERSFIELD | CA
AMERICAN BANK LAKE CITY | LAKE CITY | MN
AMERICAN HOME ACCEPTANCE CORP | SAN FRANCISCO | CA
AMERICAN MORTGAGE EXPRESS CORP | CHERRY HILL | NJ
AMERICAN SOUTHWEST MORTGAGE CORPORATION | OKLAHOMA CITY | OK
AMIR MORTGAGE CORPORATION | IRVINE | CA
APPROVED HOME MORTGAGE CORP | PEMBROKE PINES | FL
ARBOR MORTGAGE INC | HILLSBORO | OR
ASSOCIATED BANK LAKESHORE NA | MANITOWOC | WI
BANK OF DYER | HUMBOLDT | TN
BANK OF RALEIGH | BECKLEY | WV
BANK OF SIERRA BLANCA | SIERRA BLANCA | TX
BANK OF ST CHARLES COUNTY | WELDON SPRING | MO
BANK STAR ONE | FULTON | MO
BANKERS FINANCIAL GROUP INC | GREENBELT | MD
BANKNET MORTGAGE CORPORATION | MIAMI | FL
BAYSIDE FIRST MORTGAGE COMPANY | SANTA ANA | CA
BELL FEDERAL S + L OF BELLEVUE | PITTSBURGH | PA
BENEFIT FUNDING CORPORATION | BELTSVILLE | MD
BERMOR CORPORATION | LOS ANGELES | CA
BEST MORTGAGE FINDERS INC | TUCSON | AZ
BJD MORTGAGE CO | JACKSONVILLE | FL
BONDCORP REALTY SERVICES INC | NEWPORT BEACH | CA
CALDWELL NATIONAL BANK | CALDWELL | TX
CAMINO REAL FINANCIAL INC | WHITTIER | CA
CAPITAL PACIFIC MORTGAGE | NEWPORT BEACH | CA
CDW FINANCIAL CORP | LOS ANGELES | CA
CENTRAL APPALACHIAN PEOPLES FED CU | BEREA | KY
CENTURY MORTGAGE CORP | CORONA | CA
CHATEAU MORTGAGE CORPORATION | SAN DIEGO | CA
CHEMICAL BANK SOUTH | MARSHALL | MI
CHINO FEDERAL CREDIT UNION | BAYARD | NM
CITIZENS FIRST MORTGAGE CORPORATION | ENGLEWOOD | OH
CITY NATIONAL BANK | CLOQUET | MN
CITY NATIONAL BANK | FORT SMITH | AR
CMG MORTGAGE INC | SAN RAMON | CA
CNH FUNDING INC | LAS VEGAS | NV
COBB HOUSING INC | MARIETTA | GA
COLONIAL HOME EQUITIES INC | MELVILLE | NY
COLUMBIA FEDERAL SAV AND LN | FT MITCHELL | KY
COMERICA BANK | DETROIT | MI
COMMERCE BANK PA | DEVON | PA
COMMUNITY BANK DESOTO COUNTY | SOUTHAVEN | MS
COMPASS BANK ALABAMA | BIRMINGHAM | AL
COMUNITY LENDING INC | SAN JOSE | CA
CONSUMER FAIR LENDING INC | RESEDA | CA
CO-OP CREDIT UNION | BLACK RIVER FALLS | WI
COUNTRYSIDE LENDING OF TEXAS LC | HEBER CITY | UT
CROSSMARK MORTGAGE CORPORATION | COVINA | CA
CS FINANCIAL INC | LOS ANGELES | CA
CYBERLOANOFFICER-COM INC | CHICAGO | IL
D JORDAN BERMAN MORTGAGE CORP | MIAMI | FL
DAVIDSON FINANCIAL INC | COLORADO SPRINGS | CO
DEAN ENTERPRISES INCORPORATED | LA CANADA | CA
DELTA CASUALTY COMPANY | CHICAGO | IL
DONN STEIER INC | MAMMOTH LAKES | CA
EIDON FINANCIAL INC | SAN DIEGO | CA
EMA FINANCIAL INC | ONTARIO | CA
ENTERPRISE MORTGAGE CORP | LANSING | MI
EQUITY DIRECT MORTGAGE CO | LAGUNA HILLS | CA
EQUITY UNLIMITED COMPANY | ATLANTA | GA
EXECUTIVE CAPITAL GROUP INC | UPLAND | CA
EZ FUNDING CORPORATION | LOS ANGELES | CA
F AND M BANK—BRODHEAD | BRODHEAD | WI
FARMERS AND MERCHANTS | STANLEY | WI
FARMERS AND MERCHANTS STATE BK | WAYNE | NE
FARMERS TRUST AND SAVINGS BANK | BUFFALO CENTER | IA
FAST TRAC MORTGAGE LLC | ENGLEWOOD | CO
FINANCIAL AND REAL ESTATE INC | CYPRESS | CA
FINANCIAL CONSULTANTS OF AMERICA INC | STUDIO CITY | CA
FIRST AMERICAN NATIONAL FINANCIAL GROUP | RANCHO CUCAMONGA | CA
FIRST FEDERAL SAVING BANK | ZANESVILLE | OH
FIRST FOUNDATION MORTGAGE INC | TORRANCE | CA
FIRST GREENSBORO HOME EQUITY INC | GREENSBORO | NC
FIRST MORTGAGE SOLUTION INC | ORLANDO | FL
FIRST NATIONAL BANK | BALDWIN | WI
FIRST NATIONAL BANK | BOVEY | MN
FIRST NATIONAL BANK | DEEP RIVER | MN
FIRST NATIONAL BANK | LIMON | CO
FIRST NATIONAL BANK AND TRUST | FORT WALTON BEACH | FL
FIRST NATIONAL BANK JOLIET | JOLIET | IL
FIRST OF AMERICA BANK | SOUTHGATE | MI
FIRST STATE BANK | ALEXANDRIA | MN
FIRST STATE BANK | WILTON | ND
FIRST STATE BANK OF DENTON | DENTON | TX
FIRST STATE BANK OF PORTER | PORTER | IN
FIRST TRUST MORTGAGE AND FINANCE | TAMPA | FL
FIRST UNION TRUST COMPANY NA | WILMINGTON | DE
FIRST VANTAGE BANK TENNESSEE | KNOXVILLE | TN
FIRST WORLD MORTGAGE CORP | FARMINGTON | CT
FLAGSHIP BANK AND TRUST | WORCESTER | MA
FORT CALHOUN STATE BK | FORT CALHOUN | NE
FORT JACKSON FEDERAL CU | FORT JACKSON | SC
FORTRESS BANK NA | HOUSTON | MN
FOUNDATION FUNDING GROUP INC | TAMPA | FL
FOUR CORNERS FINANCIAL | TUSTIN | CA
FREEL FINANCIAL SERVICES INC | TAMPA | FL
GENESIS MORTGAGE CORP | LA JOLLA | CA
GENEVA STATE BANK | GENEVA | NE
GLOBAL CREDIT UNION | SPOKANE | WA
GLOBAL MORTGAGE CO | CHICAGO | IL
GRAND CANYON STAT EMP FED C U | PHOENIX | AZ
GREAT LAKES CREDIT UNION | NORTH CHICAGO | IL
GREAT OAK MORTGAGE CORP | ATLANTA | GA
GREAT WESTERN FINAN SERV INC | PLANO | TX
GRS EMPLOYEES CREDIT UNION | ROCHESTER | NY
GULF EMPLOYEES CREDIT UNION | GROVES | TX
HIGHLAND FEDERAL BANK FSB | BURBANK | CA
HILLSIDE FINANCIAL GROUP INC | KALAMAZOO | MI
HOLLIDAY AMERICAN MORTGAGE LLC | OKLAHOMA CITY | OK
HOME CORPORATION | CITY OF INDUSTRY | CA
HOME NATIONAL BANK | SUTTON | WV
HOMEPOINT MORTGAGE INC | OGDEN | UT
INDUSTRIAL BANK | ENCINO | CA
INDYMAC INC | PASADENA | CA
INFINITY MORTGAGE CORPORATION | ATLANTA | GA
IPI SKYSCRAPER MORTGAGE CORPORATION | NEW YORK | NY
ITASCA STATE BANK | GRANDS RAPIDS | MN
J AND B EXECUTIVE INVESTMENTS ASSOC | TUSTIN | CA
JPMORGAN CHASE BANK | GARDEN CITY | NY
KELKO CREDIT UNION | SPRINGFIELD | MA
KIRKWOOD FINANCIAL CORPORATION | VICTORVILLE | CA
KIRTLAND FEDERAL CREDIT UNION | ALBUQUERQUE | NM
L AND H MANAGEMENT GROUP INC | MIAMI | FL
L M INVESTMENTS INC | TUSTIN | CA
LAKE ELMO BANK LAKE | ELMO | MN
LANDVIEW FINANCIAL INC | LOS ANGELES | CA
LASALLE BANK FSB | CHICAGO | IL
LEADERSHIP MORTGAGE SERVICES INC | ATLANTA | GA
LEDERLE EMPLOYEES FCU | PEARL RIVER | NY
LEWIS HUNT ENTERPRISES INC | SOUTHFIELD | MI
LOAN LINES INC | TARZANA | CA
LOANGUY-COM | LOS ANGELES | CA
LOANKEY FINANCIAL INC | WALNUT CREEK | CA
LOANS OF ANY NATURE INCORPORATED | FRESNO | CA
MALTA NATIONAL BANK | MALTA | OH
MARINA MORTGAGE COMPANY INC | IRVINE | CA
MARQUETTE BANK MONTANA NA | CONRAD | MT
MARQUETTE CATHOLIC CREDIT UN | MARQUETTE | MI
MAXIMUM MORTGAGE CONCEPTS | W BRIDGEWATER | MA
MC JAMES MORTGAGE CORPORATION | NEWPORT BEACH | CA
MEDFORD COOPERATIVE BANK | MEDFORD | MA
MELLON BANK NA | PITTSBURGH | PA
MEMPHIS AREA TEACHERS C U | MEMPHIS | TN
MERCHANTS NATIONAL BANK OF WINONA | WINONA | MN
METROPOLITAN BANK AND TRUST CO | CHICAGO | IL
MID-CITY NATIONAL BANK | CHICAGO | IL
MIDTOWN FINANCIAL SERVICES | ROYAL OAK | MI
MILAM FINANCIAL SERVICES LLC | HOUSTON | TX
MINER KENNEDY ASSOCIATES INC | SCOTTSDALE | AZ
MISSOULA GOVERNMENT EMP C U | MISSOULA | MT
MMI MORTGAGE CORP | HESPERIA | CA
MODIS MORTGAGE INC | LOS ANGELES | CA
MONARCH MORTGAGE | CINCINNATI | OH
M-ONE CAPITAL CORP | RANCHO CUCAMONGA | CA
MORTGAGE DEPOT INC | TAMPA | FL
MORTGAGE EDGE CORPORATION | MCLEAN | VA
MORTGAGE MANAGERS INC | LIBERTYVILLE | IL
MORTGAGE SECURITY INC EAST | FALMOUTH | MA
MORTGAGE TEAM INC RANCHO | SANTA MARGAR | CA
MORTGAGE TRUST GROUP INC | SHREWSBURY | MA
MUTUAL LENDING CORPORATION | DIAMOND BAR | CA
N A D INC | BURBANK | CA
NBGI INC | LOS ANGELES | CA
NEW WEST MORTGAGAE CO | NORTH HOLLYWOOD | CA
NEW WORLD MORTGAGE COMPANY INC | ENGLEWOOD CLIFFS | NJ
NEW WORLD MORTGAGE INC | DOWNEY | CA
NORTHFIELD SAVINGS BANK | STATEN ISLAND | NY
NORTHWOODS STATE BANK | NORTHWOOD | IA
NUMERICA FUNDING INC | VIRGINIA BEACH | VA
OAKCREST FINANCIAL CORP | MISSION VIEJO | CA
OCWEN FEDERAL BANK FSB WEST | PALM BEACH | FL
OGEMA STATE BANK | OGEMA | MN
PACIFIC CAPITAL MORTGAGE INC | SCOTTSDALE | AZ
PACIFIC CHARTER MORTGAGE CORPORATION | LOS ALAMITOS | CA
PACIFIC INDEPENDANCE FINANCE | ENCINO | CA
PANHANDLE STATE BANK | SANDPOINT | ID
PAONIA STATE BANK | PAONIA | CO
PENIEL INVESTMENT CORPORATION | MONTEBELLO | CA
PEOPLES STATE BANK | HANOVER | PA
PLAZA HOME MORTGAGE INC | SAN DIEGO | CA
PORTUGUESE CONTINENTAL FEDERAL CR UN | NEWARK | NJ
PPI EQUITIES | LOS ANGELES | CA
PREMIER MORTGAGE CORPORATION | ELGIN | IL
PRIMEQWEST FINANCIAL CORP | CARLSBAD | CA
PROGRESS BANK OF MISSOURI | SULLIVAN | MO
PROMISTAR BANK | JOHNSTOWN | PA
PROVINCE BANK FSB | MARIETTA | PA
PSB RECEIVABLES IV CORP | CARLSBAD | CA
PSB RECEIVABLES V CORP | CARLSBAD | CA
PSP FINANCIAL SERVICES INC | IRVINE | CA
R J GROUP INC | LA PALMA | CA
RCFC INC | VICTORVILLE | CA
REAL MERC INVESTMENTS INC | NORTHRIDGE | CA
ROYAL FINANCE INC WEST | PALM BEACH | FL
RURAL AMERICAN BANK | BRAHAM | MN
S AND C BANK | NEW RICHMOND | WI
SARASOTA MUNICIPAL ECU | SARASOTA | FL
SECURITY FIRST NETWORK BANK | ATLANTA | GA
SIERRA REAL ESTATE SERVICE INC | FRESNO | CA
SIX RIVERS NATIONAL BANK | EUREKA | CA
SOLID FINANCIAL MORTGAGE CORP | WESTON | FL
ST ANSGAR STATE BANK | SAINT ANSGAR | IA
STATE BANK | AUSTIN | TX
STATE BANK OF DRUMMOND | DRUMMOND | WI
STATE NATIONAL BANK | CADDO MILLS | TX
STATEWIDE ACCEPTANCE CORPORATION | BIRMINGHAM | AL
STATEWIDE MORTGAGE AND INVESTMENT | PENSACOLA | FL
SUCCESS FUNDING INC | NORTHRIDGE | CA
SUNRISE VISTA MORTGAGE CORP | CITRUS HEIGHTS | CA
T M MORTGAGE CORPORATION | SPRINGFIELD | VA
TANNER FINANCIAL INC | BONITA | CA
TAYLLON MORTGAGE CORPORATION | LAS VEGAS | NV
TEXCORP MORTGAGE BANKERS INC | HOUSTON | TX
THE CAL-BAY MORTGAGE GROUP | PETALUMA | CA
THE LOAN NETWORK | SOUTH PASADENA | CA
THE MORTGAGE PLACE INC | RANCHO CUCAMONGA | CA
TITLE WEST MORTGAGE INC | WOODLAND HILLS | CA
TMI FINANCIAL INC | AUSTIN | TX
TOWNEBANK | PORTSMOUTH | VA
TWENTYFIRST FINANCIAL INC | LOS ANGELES | CA
TWIN CITIES MORTGAGE INC | LAKE FOREST | CA
U S BANK TRUST NATIONAL ASSOCIATION | SEATTLE | WA
UNICOR FUNDING INC MISSION | VIEJO | CA
UNION BANK CALIFORNIA NA | SAN DIEGO | CA
UNION MORTGAGE CORPORATION | CERRITOS | CA
UNITED COMMUNITY BANK | PERHAM | MN
UNITED FIDELITY BANK FSB | EVANSVILLE | IN
UNITED MORTGAGE FINANCE GROUP INC | HAMDEN | CT
UNIVERSITY BANK SAULT STE | MARIE | MI
UPTOWN MORTGAGE CORPORATION | WHITTIER | CA
US BANK NA | EAST GRAND FORKS | MN
US BANK TRUST NATIONAL ASSOC-CALIFORNIA | SAN FRANCISCO | CA
US LENDING CORPORATION | LONG BEACH | CA
USA MORTGAGE GROUP INC | LAFAYETTE | IN
VALLEY BANK NA | ELK POINT | SD
VIKING MORTGAGE CORP | PINOLE | CA
W C FINANCIAL INC | SANTA ANA | CA
WELLS FARGO BANK TEXAS NA | SAN ANTONIO | TX
WEST COAST FUNDING MISSION | VIEJO | CA
WESTCO REAL ESTATE FINANCE CORP | COSTA MESA | CA
WESTERN FEDERAL MORTGAGE INC | BELLEVUE | WA
WHITNEY NATIONAL BANK | NEW ORLEANS | LA
WORLD WIDE MONEY CENTER INC | SAN DIEGO | CA
WORLDWIDE CAPITAL INDUSTRIES INC | RANCHO CUCAMONGA | CA
568 Title 2 Mortgagees and Loan Correspondent Mortgagees Terminated Between April 1, 2002, and September 30, 2002
A AND E MORTGAGE CO LLC | ROSELLE | NJ
A BETTER MORTGAGE AND REAL ESTATE SERV | DOWNEY | CA
ABC AND D MORTGAGE SRVS INC | FORT MYERS | FL
ABC LENDING INC | CORAL SPRINGS | FL
ADVANCE BANK SB | LANSING | IL
ADVANCED INNOVATIVE MORTGAGES INC | FLINT | MI
ADVANTAGE MORTGAGE CORPORATION | NAPERVILLE | IL
AEROSTAR MORTGAGE CORP | PLANO | TX
ALEXANDER AND ASSOCIATES REAL ESTATE COR | LEBANON | IN
ALFAMUTUAL FIRE INSURANCE CO | MONTGOMERY | AL
ALL WORLD FINANCIAL INC | LAKEWOOD | CO
AMA FINANCIAL CORPORATION | FOREST PARK | IL
AMARIS MORTGAGE COMPANY | CHICAGO | IL
AMERI-TRUST FINANCIAL INC | NASHVILLE | TN
AMERICAN BANK OF CONNECTICUT | WATERBURY | CT
AMERICAN CAPITAL FUNDING CORP | HOUSTON | TX
AMERICAN CAPITAL MORTGAGE INC | CORDOVA | TN
AMERICAN DREAM HOME LOANS INC | TEMECULA | CA
AMERICAN EQUITY MORTGAGE INC | PORTLAND | OR
AMERICAN FEDERAL CREDIT UNION | MISSION HILLS | CA
AMERICAN FUNDING ALLIANCE CORPORATION | TEMECULA | CA
AMERICAN FUNDING CORPORATION | HAMMOND | LA
AMERICAN HOME FUNDING INC | NEWPORT BEACH | CA
AMERICAN HOMEOWNERS UNION | DULUTH | GA
AMERICAN MORTGAGE CENTER LLC | FRESNO | CA
AMERICAN MORTGAGE LINK INC | ST PETERSBURG | FL
AMERICAN REPUBLIC INS CO | DES MOINES | IA
AMERICAN TRUST MORTGAGE BROKERS | MIAMI | FL
AMERIHOME MORTGAGE CORP | TAMPA | FL
AMERILOAN INC | PHOENIX | AZ
AMIR MORTGAGE CORPORATION | IRVINE | CA
AMSTERDAM FEDERAL SAVINGS AND LOAN ASSN | AMSTERDAM | NY
AMTRUST FINANCIAL SERVICES INCORP | CARMEL | IN
ANCHOR HOME MORTGAGE MAPLES INC | MAPLES | FL
ANDROSCOGGIN SAVINGS BANK | LEWISTON | ME
ANTELOPE VALLEY BANK | LANCASTER | CA
APM CAPITAL INC | SAN DIEGO | CA
APPLE MORTGAGE CORPORATION | TUSCALOOSA | AL
APPROVED HOME MORTGAGE CORPORATION | PEMBROKE PINES | FL
APPROVED MORTGAGE FINANCING | JACKSONVILLE | FL
APPS FINANCIAL CORPORATION | ORANGE | CA
ASPEN MORTGAGE CO LLC | GREENVILLE | SC
ASSOCIATES MORTGAGE GROUP INC | LOUISVILLE | KY
ATLANTIC PACIFIC EQUITY CORP | MISSION VIEIO | CA
AUDUBON SAVINGS BANK | AUDUBON | NJ
AUTOWIN INC | TUSTIN | CA
AVALON MORTGAGE INC | DULUTH | GA
B AND D CAPITAL MORTGAGE CORP | OAKLAWN | IL
BAKELITE EMPLOYEES CREDIT UNION | SOMERSET | NJ
BANC NOTE OF AMERICA INC | INDIANAPOLIS | IN
BANK LATAH | LATAH | WA
BANK OF BENTONVILLE | BENTONVILLE | AR
BANK OF BLOOMFIELD HILLS | BLOOMFIELD HILLS | MI
BANK OF GRAVETT | GRAVETTE | AR
BANK OF MISSOURI CAPE | GIRARDEAU | MO
BANK OF THE SIERRA | PORTERVILLE | CA
BANK ONE MICHIGAN GROSS | POINT | MI
BANK PLUS INC | ALBUQUERQUE | NM
BANK TWENTY ONE | CARROLLTON | MO
BANKERS MORTGAGE CORPORATION | CHEVY CHASE | MD
BANKNET MORTGAGE CORPORATION | MIAMI | FL
BARTOW COUNTY BANK | CARTERSVILLE | GA
BARWICK AND ASSOCIATES LTD | BATAVIA | OH
BEE LINE MORTGAGE CORP | FT LAUDERDALE | FL
BELGRADE STATE BANK | POTOSI | MO
BELL FEDERAL SAVINGS ALA | PITTSBURGH | PA
BEST MORTGAGE SERVICES | BELLEVUE | WA
BIG LAKE NATIONAL BANK | OKEECHOBEE | FL
BLOOMFIELD ACCEPTANCE CO LLC | BIRMINGHAM | MI
BMA FINANCIAL CORPORATION | DANVILLE | CA
BMR FINANCIAL SERVICES INC | GREENBELT | MD
BRECKINRIDGE CORP | WINCHESTER | VA
BRENTON MORTGAGES INC | DES MOINES | IA
BYZAN CORPORATION | TIMONIUM | MD
C M H MORTGAGE COMPANY | WORTHINGTON | OH
C PALMIERI ENTERPRISES INC | SAN DIEGO | CA
CAL SIERRA FUNDING INC | MARTINEZ | CA
CALUMET SECURITIES CORPORATION | PLANO | TX
CAMBRIDGE EQUITIES LLC | SHELBYVILLE | TN
CAPITAL CITY MORTGAGE CO INC | TOPEKA | KS
CAPITAL COMPANY OF AMERICA LLC | SAN FRANCISCO | CA
CAPITAL FINANCIAL ENTERPRISES INC | CHICAGO | IL
CAPITAL MORTGAGE CORP | RALEIGH | NC
CAPITAL MORTGAGE GROUP | MIAMI | FL
CAPITAL PACIFIC MORTGAGE INC | NEWPORT BEACH | CA
CARMEL MOUNTAIN MORTGAGE CORPORATION | SAN DIEGO | CA
CARRINGTON MORTGAGE CORPORATION | MIAMI | FL
CARTY MORTGAGE SERVICES | MEMPHIS | TN
CATHEDRAL MORTGAGE INC | MONTEBELLO | CA
CENIT BANK FOR SAVINGS FSB | CHESAPEAKE | VA
CENTRAL MORTGAGE BROKERAGE CORP | JACKSON HEIGHTS | NY
CENTRAL VALLEY CREDIT UNION | MODESTO | CA
CENTURA MORTGAGE GROUP INC | GRAPEVINE | TX
CENTURY MORTGAGE CORP | CORONA | CA
CHALLENGER MORTGAGE CORPORATION | HOUSTON | TX
CHANCELLOR MORTGAGE SERVICES | SEVERNA PARK | MD
CHAPEL CREEK MORTGAGE BANKER INC | MT POCONO | PA
CHARTER BANK | WYANDOTTE | MI
CHASE MANHATTAN MORTGAGE CORP-MELLON | DENVER | CO
CHATEAU MORTGAGE CORP | ATLANTA | GA
CHERVENIC FINANCIAL SERVICES LP | STOWE | OH
CHINO VALLEY MORTGAGE INC | RANCHO CUCAMONGA | CA
CHOICEONE BANK | SPARTA | MI
CITIZENS BANK AMERICUS | AMERICUS | GA
CITIZENS BANK AND TRUST GRAYSON | LEITCHFIELD | KY
CITIZENS BANK FSB | SALISBURY | NC
CITIZENS FIRST BANK | ROME | GA
CITIZENS FIRST MORTGAGE CORPORATION | ENGLEWOOD | OH
CITY EMPLOYEES CR UN W PALM BEACH INC | WEST PALM BEACH | FL
CITY NATIONAL BANK | TAYLOR | TX
CITY NATIONAL BANK FORT SMITH | FORT SMITH | AR
CITY SAVINGS BANK | PITTSFIELD | MA
CLP DOCUMENT PREPARATION INC | OAKBROOK | IL
COAST TO COAST FUNDING INC | CITY OF COMMERCE | CA
COASTAL MORTGAGE ASSOCIATES | CARLSBAD | CA
COASTAL SAVINGS BANK | PORTLAND | ME
COLONIAL HOME EQUITIES INC | MELVILLE | NY
COLONIAL TRUST CORPORATION | FORT LAUDERDALE | FL
COLONY MORTGAGE LLC | SOUTH PLAINFIELD | NJ
COLORADO COMMUNITY FIRST STATE BK-CO | DENVER | CO
COLUMBIA CREDIT UNION | VANCOUVER | WA
COMMERCE BANK AND TRUST | TOPEKA | KS
COMMUNITY BANK | BRISTOW | OK
COMMUNITY BANK AND TRUST | NEOSHO | MO
COMMUNITY BANK OF LAWNDALE | CHICAGO | IL
COMMUNITY FIRST NATIONAL BANK | LAS CRUCES | NM
COMMUNITY FIRST NATIONAL BANK | FERGUS FALLS | MN
COMMUNITY FIRST NATIONAL BANK | SPOONER | WI
COMMUNITY FIRST STATE BANK | ALLIANCE | NE
COMMUNITY GUARANTY SAVINGS BANK | PLYMOUTH | NH
COMMUNITY HOME LOAN LLC | HOUSTON | TX
COMMUNITY HOMEBANC INC | INDEPENDENCE | MO
COMMUNITY HOMEBANC OF AMERICA CORP | INDEPENDENCE | MO
COMMUNITY SECURITY BANK | NEW PRAGUE | MN
COMPLETE MORTGAGE COMPANY LLC | SHREVEPORT | LA
COMSTOCK BANK | RENO | NV
CONCEPT ONE MORTGAGE CORP | SOUTHFIELD | MI
CONGRESSIONAL MORTGAGE CORPORATION INC | BIRMINGHAM | AL
CONSOLIDATED BANK AND TRUST CO | RICHMOND | VA
CONSORCIO LENDING INC | BREA | CA
CONSTRUCTION WRKS PEN TR FED | MERRILLVILLE | IN
CONSUMER FAIR LENDING INC | RESEDA | CA
CONTINENTAL MORTGAGE CORP | SAN JUAN | PR
CONTINENTAL MORTGAGE CORP OF ILLINOIS | MT PROSPECT | IL
CONTINENTAL MORTGAGE INC | ST GEORGE | UT
COOPERATIVA AHORRO Y CREDITO DE MAUNABO | MAUNABO | PR
CORNERSTONE BANK AND TRUST NA | ALTON | IL
CORNERSTONE MORTGAGE CORP | DULUTH | GA
COUNTRY LIFE INSURANCE CO | BLOOMINGTON | IL
COUNTRYSIDE HOME LOANS INC | PORTERVILLE | CA
COUNTY FUNDING CORP | SANTA ANA | CA
CPT FINANCIAL CORP | VACAVILLE | CA
CREDIT WORKS INC | BROOKFIELD | CT
CRESCENT BANK AND TRUST | NEW ORLEANS | LA
CRESTAR BANK | RICHMOND | VA
CROSSMARK MORTGAGE CORP | COVINA | CA
CROW PASS INVESTMENTS LLC | ANCHORAGE | AK
CRYSTAL LAKE BANK AND TRUST COMPANY NA | CRYSTAL LAKE | IL
CS FINANCIAL INC | LOS ANGELES | CA
DACOTAH BANK | CLARK | SD
DAMLA CORPORATION | ATLANTA | GA
DAWKINS AND ASSOCIATES INC | CHARLOTTE | NC
DENTON AREA TEACHERS CREDIT UNION | DENTON | TX
DESTINY MORTGAGE GROUP INC | BIRMINGHAM | AL
DIRECT MORTGAGE BANKERS CORPORAION | CARLSBAD | CA
DISCOVER FINANCIAL GROUP INC—OREGON | CANBY | OR
DIVERSIFIED BAY MORTGAGE | SAN RAMON | CA
DJB OUTSOURCING GROUP INC | DESOTO | TX
DOT FINANCIAL INC | SACRAMENTO | CA
EAB MORTGAGE COMPANY INC | GARDEN CITY | NY
EAGLE MORTGAGE GROUP INC | CASSELBERRY | FL
EASTERN MORTGAGE COMPANY INC | EMERALD ISLE | NC
ELDORADO BANK | SACRAMENTO | CA
ELITE FUNDING INC | BALDWIN PARK | CA
EMPIRE HOME LENDING CORPORATION | BOCA RATON | FL
ENTERPRISE FINANCIAL COMPANY | WEST BLOOMFIELD | MI
ENTERPRISE MORTGAGE CORP | LANSING | MI
EQUALITY SAVINGS AND LOAN ASSN | ST LOUIS | MO
EQUITY UNLIMITED COMPANY | ATLANTA | GA
ERETZ FUNDING LTD | BROOKLYN | NY
EUROPEAN AMERICAN BANK AND TR CO | UNIONDALE | NY
EXCHANGE BANK OF MISSOURI | FAYETTE | MO
FAIR LENDING FINANCIAL SERVICES INC | MAITLAND | FL
FAIRGREEN MORTGAGE CO LLC | ATLANTA | GA
FAMILY SECURITY FINANCIAL LLC | WALLSVILLE | UT
FARMERS AND MERCHANTS BANK | COLBY | KS
FARMERS AND MERCHANTS BANK | STANLEY | WI
FARMERS NATIONAL BANK | OPELIKA | AL
FAST TRAC MORTGAGE LLC | ENGLEWOOD | CO
FIDELITY FEDERAL BANK | IRVINE | CA
FIDELITY NATIONAL MORTGAGE CORP | CLINTON TOWNSHIP | MI
FIFTH THIRD BANK INDIANA | EVANSVILLE | IN
FIFTH THIRD BANK NW OHIO NA | TOLEDO | OH
FIFTH THIRD BANK OF COLUMBUS | DUBLIN | OH
FIFTH THIRD BANK OF SOUTHERN OH | HILLSBORO | OH
FIFTH THIRD BANK WESTERN OHIO NA | DAYTON | OH
FINANCIAL AND REAL ESTATE SERV | CYPRESS | CA
FINANCIAL CONSULTANTS OF AMERICA INC | STUDIO CITY | CA
FINANCIAL DYNAMICS FUNDING CORP | MINEOLA | NY
FIRST AMERICAN NATIONAL FINANCIAL GROUP | RANCHO CUCAMONGA | CA
FIRST BANK AND TRUST COMPANY | PROVIDENCE | RI
FIRST BANK FARMERSVILLE | FARMERSVILLE | TX
FIRST BENEFICIAL MORTGAGE CORP | CHARLOTTE | NC
FIRST CAPITAL MORTGAGE AND ASSOC INC | MARIETTA | GA
FIRST CHESAPEAKE MORTGAGE CORP | ANNAPOLIS | MD
FIRST CHICAGO MORTGAGE CO | CHICAGO | IL
FIRST CHOICE HOME LOANS INC | CONYERS | GA
FIRST CHOICE MORTGAGE INC | IRVINE | CA
FIRST COLONIAL SAVINGS BANK | HOPEWELL | VA
FIRST COMMERCE MORTGAGE CO | LINCOLN | NE
FIRST COMMUNITY BANK FSB | KEOKUK | IA
FIRST COMMUNITY BANK SW GA | BAINBRIDGE | GA
FIRST COVENANT MORTGAGE CORP | BIRMINGTON | AL
FIRST DENVER MORTGAGE COMPANY | DENVER | CO
FIRST DISCOUNT MORTGAGE CORP | BIRMINGHAM | MI
FIRST EQUITY MORTGAGE LLC | MURRAY | UT
FIRST FEDERAL BANK CA | SANTA MONICA | CA
FIRST FEDERAL SAVINGS BANK | WASHINGTON COURTHOUSE | OH
FIRST FEDERAL SAVINGS BANK EASTERN OH | ZANESVILLE | OH
FIRST FLOYD BANK | ROME | GA
FIRST FOUNDATION MORTGAGE INC | TORRANCE | CA
FIRST FUND MORTGAGE CORPORATION | LAUDERHILL | FL
FIRST HARBOR FINANCIAL SERVICES LP | WILMINGTON | NC
FIRST HOMESTEAD FUNDING CORP | WHEATON | MD
FIRST HORIZON MORTGAGE INC | SHELBY TOWNSHIP | MI
FIRST INDEPENDENCE NATL BANK | DETROIT | MI
FIRST JEFFERSON MORTGAGE CORP | NORFOLK | VA
FIRST KANSAS FEDERAL SAVINGS ASSN | OSAWATOMIE | KS
FIRST NATION BANK | COVINGTON | GA
FIRST NATIONAL BANK | SILOAM SPRINGS | AR
FIRST NATIONAL BANK—GREENFIELD | GREENFIELD | IA
FIRST NATIONAL BANK AND TRUST | ROGERS | AR
FIRST NATIONAL BANK AND TRUST | PARSONS | KS
FIRST NATIONAL BANK OF MARENGO | MARENGO | IL
FIRST NATIONAL BANK OF O NEILL | O NEILL | NE
FIRST NATIONAL BANK OF PASCO | DADE CITY | FL
FIRST NATIONAL MORTGAGE BANC | PHOENIX | AZ
FIRST NATIONWIDE BANK FSB | DALLAS | TX
FIRST OAKMONT ENTERPRISES INC | LEHIGH | FL
FIRST OPTION FINANCIAL INC | CENTERVILLE | OH
FIRST STATE BANK | KEENE | TX
FIRST STATE BANK OF DENTON | DENTON | TX
FIRST STATE BANK OF PORTER | PORTER | IN
FIRST STATE FINANCIAL CORPORATION | NEWPORT BEACH | CA
FIRST SWITZERLAND FINANCIAL LTD | CHICAGO | IL
FIRST TENNESSEE BANK NA | MEMPHIS | TN
FIRST VIRGINIA MORTGAGE CO | FALLS CHURCH | VA
FIRST WESTERN BANK | SIMI VALLEY | CA
FIRST WESTERN BANK WALL | WALL | SD
FIVE POINTS BANK-HASTINGS | HASTINGS | NE
FLAGSHIP BANK AND TRUST CO | WORCESTER | MA
FLEET MORTGAGE GROUP INC | COLUMBIA | SC
FLEET NATIONAL BANK | PROVIDENCE | RI
FLORIDA FIRST FINANCIAL INC | TAMARAC | FL
FODARE INC | PALM BEACH GARDENS | FL
FORT CALHOUN STATE BANK | FORT CALHOUN | NE
FRANKLIN FIRST FINANCIAL LTD | WEST HEMPSTEAD | NY
FRANKLIN-LAMOILLE BANK | ST ALBANS | VT
FREEDOM FINANCIAL SERVICES INC | SPRINGFIELD | MO
FREEDOM MORTGAGE COMPANY LLC | SOLDOTNA | AK
FREEL FINANCIAL SERVICES INC | TAMPA | FL
FRIENDSHIP COMMUNITY BANK | OCALA | FL
FRONTIER MORTGAGE CORPORATION | LAS VEGAS | NV
G E LENDERS INC | TIMONIUM | MD
GALLAND FINANCIAL SERVICES | ONTARIO | CA
GATEWAY BANK AND TRUST | RINGGOLD | GA
GATEWAY FINANCIAL LTD | MASSAPEQUA | NY
GATEWAY FUNDING CORPORATION | ALISO VIEJO | CA
GEORGIA BANK AND TRUST COMPANY | MARTINEZ | GA
GIBRALTAR FINANCE AND MORTGAGE INC | HOUSTON | TX
GLOBAL BANCORP INC | ANAHEIM | CA
GLOBAL BENEFITS INC | FORT LEE | NJ
GOLD BANC MORTGAGE INC | OVERLAND PARK | MO
GOLD COUNTRY NATIONAL BANK | MARYSVILLE | CA
GRAND FEDERAL SAVINGS BANK | GROVE | OK
GRAND WEST FINANCIAL LIMITED | COLORADO SPRINGS | CO
GREAT HOME MORTGAGES INC | LAKEWOOD | CO
GREATER CHICAGO BANK | BELLWOOD | IL
GULFSTREAM LENDING INC | DENVER | CO
H AND M MORTGAGE CORPORATION | CAPERRA | PR
HADDON SAVINGS BANK | HADDON HEIGHTS | NJ
HAMILTON FINANCIAL GROUP LTD | OAKBROOK | IL
HAMPTON MORTGAGE CORPORATION | CLARKSTON | MI
HAMPTON ROADS FUNDING CORP | VIRGINIA BEACH | VA
HARTSVILLE COMMUNITY BANK NA | HARTSVILLE | SC
HAVEN MORTGAGE CORPORATION | RANCHO CUCAMONGA | CA
HERITAGE BANK | JONESBORO | GA
HIGHLAND MORTGAGE FINANCIAL GROUP INC | EVERGREEN | CO
HINSDALE FEDERAL BANK FOR SAVINGS | HINSDALE | IL
HOLLIDAY AMERICAN MORTGAGE LLC | OKLAHOMA CITY | OK
HOME CORPORATION | CITY OF INDUSTRY | CA
HOME FINANCE AND MORTGAGE INC | CORNELIUS | NC
HOME MORTGAGE FUNDING SERVICES | AURORA | CO
HOME MORTGAGE LLC | MIDDLETOWN | CT
HOMEBASE LENDING GROUP INC | DOWNEY | CA
HOMEOWNERS ASSISTANCE CORP | BEDFORD | NH
HOMEPOINT MORTGAGE INC | OGDEN | UT
HOMESOUTH MORTRGAGE SERVICES | HIRAM | GA
HOMESTART MORTGAGE CORPORATION | CHICAGO | IL
HOMESTEAD MORTGAGE COMPANY | SOUTHFIELD | MI
HSA RESIDENTIAL MTG SER TX INC | HOUSTON | TX
INDEPENDENCE BANK | KERNERSVILLE | NC
INDEPENDENT BANK OF OXFORD | OXFORD | AL
INDYMAC INC | PASADENA | CA
INNOVATIVE MORTGAGE COMPANY | SOUTH BEND | IN
INTEGRITY MORTGAGE GROUP INC | ELKHART | IN
INTER BANK | DUVALL | WA
INVVISION MORTGAGE INC | CARROLLTON | TX
J AND R MORTGAGE INC | SAN MATEO | CA
J M FINANCIAL SERVICES INC | BAY HARBOR | FL
JAN-RON FINANCIAL CORP DBA HOME FIN MTG | TORRANCE | CA
JD REECE MORTGAGE COMPANY | MISSION WOODS | KS
JEFFERSON HERITAGE MORTGAGE CO | BALLWIN | MO
JONES COMPANY FINANCIAL SERVICES LTD | BRENTWOOD | TN
KANSAS STATE BANK—OTTAWA | OTTAWA | KS
KEYPORT LIFE INSURANCE COMPANY | BOSTON | MA
KIRTLAND FEDERAL CREDIT UNION | ALBUQUERQUE | NM
KMC MORTGAGE SERVICES INC | NAPLES | FL
LANDMARK PACIFIC MORTGAGE | FAIR OAKS | CA
LEGACY FINANCIAL AND INSURANCE CNTR INC | ST GEORGE | UT
LENDING NOW INC | JACKSONVILLE | FL
LIBERTY MORTGAGE LP | SAN DIEGO | CA
LIFE INSURANCE CO GEORGIA | ATLANTA | GA
LIFETIME MORTGAGE INC | INDIANAPOLIS | IN
LOAN FACTORY INC | HOUSTON | GA
LOANKEY FINANCIAL INC | WALNUT CREEK | CA
LOANS AMERICA MORTGAGE CORPORATION | MIAMI | FL
LOANS FOR RESIDENTIAL HOMES MORTGAGE | EAST GREENWISH | RI
LUCKY REALTY HOMES INC | PIKESVILLE | MD
LUTHERAN BROTHERHOOD | MINNEAPOLIS | MN
M AND I BANK | SUPERIOR | WI
M AND I BANK OF SOUTHERN WISCONSIN | MADISON | WI
M AND I COMMUNITY STATE BANK | EAU CLAIRE | WI
M AND I FIRST AMERICAN BANK | WAUSAU | WI
M L MORTGAGE INC | HOUSTON | TX
M-ONE CAPITAL CORP | RANCHO CUCAMONGA | CA
MARC S ENGLISH FINL SRVCS | ARLINGTON | TX
MARQUETTE BANK MONTANA NA | CONRAD | MT
MARQUETTE BANK NA | NEW HOPE | MN
MARX MORTGAGE ONE INC | FOREST PARK | IL
MASCOMA SAVINGS BANK FSB | LEBANON | NH
MATRIX MORTGAGE CO LLC | INDIANAPOLIS | IN
MCKENZIE BANKING COMPANY | MCKENZIE | TN
MERCANTILE BANK ARKANSAS | NORTH LITTLE ROCK | AR
MERCANTILE TRUST AND SAVINGS BANK | QUINCY | IL
MERCHANTS AND FARMERS BANK | HOLLY SPRINGS | MS
MERIDIAN GROUP MORTGAGE CORP | CARMEL | IN
MERIDIAN RESIDENTIAL GROUP INC | ENGLEWOOD CLIFF | NJ
METROBOSTON MORTGAGE CO INC | CANTON | MA
METROPOLITAN FINANCIAL INC | CHICAGO | IL
METTER BANKING COMPANY | METTER | GA
MID AMERICA MORTGAGE SERVICES OF ST LOUI | ST LOUIS | MO
MID INDIANA MORTGAGE INC | INDIANAPOLIS | IN
MID-CITY FINANCIAL INC | ARLINGTON | TX
MID-CITY NATIONAL BANK | CHICAGO | IL
MID-CONTINENT CASUALTY COMPANY | TULSA | OK
MIDWEST BANK DETROIT | LAKES | MN
MILAM FINANCIAL SERVICES LLC | HOUSTON | TX
MILLENIUM FUNDING GROUP INC | EUSTIS | FL
MILLENIUM HOME MORTGAGE LLC | PARSIPPANY | NJ
MILLENNIUM MORTGAGE COMPANY | SIOUX FALLS | SD
MILLENNIUM MORTGAGE FUNDING | SUNRISE | FL
MILLENNIUM MORTGAGE INVESTORS INC | ANNANDALE | VA
MILLENNIUM RESIDENTIAL MORTGAGE LLC | HOUSTON | TX
MINER KENNEDY ASSOCIATES INC | SCOTTSDALE | AZ
MINNWWEST BANK SLAYTON | SLAYTON | MN
MMI MORTGAGE CORP | HESPERIA | CA
MNB FINANCIAL SERVICES INC | DALLAS | TX
MODIS MORTGAGE INC | LOS ANGELES | CA
MOHAWK PROGRESSIVE FEDERAL C U | SCHENECTADY | NY
MONEY LENDERS INC | MIAMI | FL
MONTECITO BANK AND TRUST | SANTA BARBARA | CA
MORTGAGE ADVISORS INC | CHICAGO HEIGHTS | IL
MORTGAGE BANKERS SERVICE CORPORATION | CORAL SPRINGS | FL
MORTGAGE BEACON INC | CLEARWATER | FL
MORTGAGE CONSULTANTS INC | COLUMBIA | MD
MORTGAGE EXECUTIVES INC | PORTLAND | OR
MORTGAGE FINANCING INC | BIRMINGHAM | AL
MORTGAGE FREEDOM COMPANY INC | TUALATIN | OR
MORTGAGE MONEY INC | MEMPHIS | TN
MORTGAGE ONE OF NEVADA INC | LAS VEGAS | NV
MORTGAGE PROFESSIONALS INC | EL PASO | TX
MORTGAGE SOLUTIONS LLC | BLOOMINGTON | IN
MORTGAGE TEAM INC RANCHO | SANTA MARGAR | CA
MUTUAL LENDING CORPORATION | DIAMOND BAR | CA
NASHOBA BANK | GERMANTOWN | TN
NATIONAL BANK ANDOVER | ANDOVER | KS
NATIONAL BANK OF COMMONWEALTH | INDIANA | PA
NATIONAL BANK OF FREDERICKSBURG | FREDERICKSBURG | VA
NATIONAL HOME LOAN CORPORATION | DEERFIELD BEACH | FL
NATIONAL LIFE INSURANCE CO | MONTPELIER | VT
NATIONWIDE MORTGAGE AND LOAN CORPORATION | MIAMI | FL
NEIGHBORHOOD MORTGAGE BANKERS INC | VALLEY STREAM | NY
NETHOMEFINANCIAL LP | ALBUQUERQUE | NM
NEW DIMENSIONS FINANCIAL SER | ROLLING MEADOWS | IL
NEW LIFE MORTGAGE CO | NORTH MIAMI BEACH | FL
NEW ORLEANS MORTGGE LENDING CORP | NEW ORLEANS | LA
NEW WEST MORTGAGE CO | NORTH HOLLYWOOD | CA
NEW WORLD MORTGAGE COMPANY INC | ENGLEWOOD CLIFFS | NJ
NF INVESTMENTS INC | ATLANTA | GA
NHC MORTGGAE GROUP LP | HOUSTON | TX
NO CAROLINA TEACHRS ST EMP RET | RALEIGH | NC
NORMAN METRO MORTGAGE COMPANY LLC | NORMAN | OK
NORTH AMERICAN BANKING COMPANY | ROSEVILLE | MN
NORTH CAROLINA MUTUAL LIFE INS | DURHAM | NC
NORTH SOUND BANK | SILVERDALE | WA
NORTH STAR BANK | ROSEVILLE | MN
NORTHCENTRAL MORTGAGE SERVICES CORP | OCALA | FL
NORTHEAST FLORIDA MORTGAGE INC | SOUTH HAMPTON | FL
NORTHERN FINANCIAL MORTGAGE LLC | LOVELAND | CO
NORTHSHORE MORTGAGE CORP | METAIRIE | LA
NORTHSTAR MORTGAGE LP | TEMECULA | CA
NORTHWEST BANK | ROANOKE | TX
NORTHWESTERN SAVINGS BANK AND TRUST | TRAVERSE CITY | MI
OAK HILL BANKS | JACKSON | OH
OAK TREE FINANCIAL CONCEPTS | FREDERICK | MD
OCEAN BANK | MIAMI | FL
OHIO BANK | FINDLAY | OH
OLYMPIC FINANCIAL SERVICES | FULLERTON | CA
ON-LINE MORTGAGE EXPRESS | UPLAND | CA
ONE SOURCE MORTGAGE GROUP INC | INDIANAPOLIS | IN
ORCHARD FEDERAL SAVINGS BANK | ONTARIO | OR
PACIFIC COAST FINANCIAL SERVICE | SAN CLEMENTE | CA
PACIFIC MORTGAGE FUNDING CORP | NORWALK | CA
PARADIGM FINANCIAL LLC | NINEVEH | IN
PENIEL INVESTMENT CORPORATION | MONTEBELLO | CA
PEOPLES BANK | MILLINGTON | TN
PEOPLES BANK | CUBA | MO
PEOPLES MORTGAGE LENDING SERVICES INC | ORLANDO | FL
PERFORMANCE MORTGAGE CORP | HENDERSONVILLE | TN
PERPETUAL BANK FSB | ANDERSON | SC
PERSONAL MORTGAGE SERVICES INC | PORT CHARLOTTE | FL
PINNACLE BANK | LITTLE ROCK | AR
PINNACLE MORTGAGE INC | EAST HANOVER | NJ
PIONEER BANK | BAKER CITY | OR
PLATINUM CAPITAL MORTGAGE INC | CHAMBLEE | GA
PLATINUM MORTGAGE LENDING CORP | SUNRISE | FL
PLG FUNDING CORPORATION | SOUTHFIELD | MI
PLUMAS BANK | SUSANVILLE | CA
PORT GIBSON BANK | PORT GIBSON | MS
PORTUGUESE CONTINENTAL FEDERAL CR UN | NEWARK | NJ
PRECEPT CORPORATION | OAKLAND | CA
PRECISE MORTGAGE SERVICES INC | ELMSFORD | NY
PRECISE MORTGAGE SERVICES INC | DENTON | TX
PRIMEQWEST FINANCIAL CORP | CARLSBAD | CA
PROFESSIONAL MORTGAGE ASSOCIATES LTD | CLARKSTON | MI
PROGRESSIVE MORTGAGE | BROWNSVILLE | TX
PROGRESSIVE MORTGAGE AND INVESTMENT CORP | SHREVEPORT | LA
PROMISTAR BANK | JOHNSTOWN | PA
PSP FINANCIAL SERVICES INC | IRVINE | CA
PUTNAM MORTGAGE CORPORATION | STONEHAM | MA
QPOINT HOME MTG LOANS BELLEVUE MAIN INC | BELLEVUE | WA
QUALITY LENDING LP | KATY | TX
R B MORTGAGE CO | SAN BERNARDINO | CA
R M G FUNDING GROUP INC DBA NATIONAL BAN | CANOGA PARK | CA
RAHWAY SAVINGS INSTITUTION | RAHWAY | NJ
REAL MERC INVESTMENT INC | NORTHRIDGE | CA
REDLANDS CENTENNIAL BANK | REDLANDS | CA
REGAL MORTGAGE SERVICES INC | INDIANAPOLIS | IN
REPUBLIC BANK | DARIEN | IL
RESIDENTIAL CREDIT CORPORATION | WESTMINSTER | CA
RIVER CITY MORTGAGE LP | SACRAMENTO | CA
RIVERSIDE MORTGAGE COMPANY LLC | LABELLA | FL
RIVERWAY BANK | HOUSTON | TX
RODRIGUEZ CHAVEZ CORP | HOUSTON | TX
ROYAL FINANCE INC | WEST PALM BEACH | FL
RSO INC | GREENFIELD | IN
RUSTY ROSE INC | MIAMI | FL
S AND C BANK | NEW RICHMOND | WI
SAJJ LLC | DALLAS | TX
SAN JOAQUIN FINANCIAL | FRESNO | CA
SCHULER MORTGAGE INC | BELLEVUE | WA
SCHWEGMANN BANK AND TRUST COMPANY | HARVEY | LA
SECURITY FIRST FINANCIAL LLC | SOUTH OGDEN | UT
SECURITY NATIONAL BANK AND TR CO NORMAN | NORMAN | OK
SFM LLC | BRENTWOOD | TN
SIERRA FOOTHILL FINANCIAL INC | OAKHURST | CA
SIERRA FOOTHILL MORTGAGE CORP | AUBURN | CA
SIMMONS FIRST BANK DUMAS | DUMAS | AR
SIX RIVERS NATIONAL BANK | EUREKA | CA
SOUTH JERSEY SAVINGS AND LOAN ASSN | TURNERSVILLE | NJ
SOUTH SIDE NATIONAL BANK—ST LOUIS | SAINT LOUIS | MO
SOUTHERN MORTGAGE LENDING CORPORATION | MEMPHIS | TN
SOUTHERN MORTGAGE SERVICES | MIAMI | FL
SOUTHERN STATES FUNDING | ORLANDO | FL
SOUTHLAND MORTGAGE BANKERS INC | MIAMI | FL
SOUTHLAND MORTGAGE INVESTMENT GROUP INC | GAINESVILLE | FL
SOUTHWEST NATIONAL BANK | GREENSBURG | PA
SPECIALIZED FINANCIAL SERVICES | BEDFORD | TX
SPOKANE EMPLOYEES' RETIREMT SY | SPOKANE | WA
STATE BANK AND TRUST NA | TULSA | OK
STATE BANK OF DELANO | DELANO | MN
STATE BANK OF LIZTON | PITTSBORO | IN
STATE BANK OF YOUNG AMERICA | NORWOOD YOUNG AMER | MN
STATE EMPLOYEES COMM CREDIT UNION | DES MOINES | IA
STATEWIDE MORTGAGE GROUP INC | MARCO ISLAND | FL
STERLING MORTGAGE CORP | OKLAHOMA CITY | OK
STEWART BOSSEL AND ASSOCIATES | CLEVELAND | OH
STONEHILL MORTGAGE CORPORATION | TAUNTON | MA
SUNCOAST MORTGAGE BANKERS | MIAMI | FL
SUNRISE MORTGAGE SERVICES | MIAMI | FL
SUNSHINE STATE MORTGAGE INV CORP | MIAMI | FL
SUPERIOR FIRST MORTGAGE LLC | ADDISON | TX
SUSSEX COUNTY STATE BANK | FRANKLIN | NJ
SWIFT FINANCIAL SERVICES INC | WELLINGTON | FL
TEHAMA COUNTY BANK | RED BLUFF | CA
TERRA FINANCIAL GROUP INC | PHILADELPHIA | PA
TEXAS COMMUNITY BANK | DALLAS | TX
TG MORTGAGE GROUP LP | HOUSTON | TX
THE LOAN STORE INC | ST LOUIS | MO
THE MORTGAGE FOUNDATION LP | ARLINGTON | WA
THE UNITED FEDERAL CREDIT UNION | MORGANTOWN | WV
TLC HOME FINANCE INC | PLACENTIA | CA
TMI FINANCIAL INC | AUSTIN | TX
TOPS MORTGAGE INC | LEHIGH ACRES | FL
TRACY FEDERAL BANK FSB | CASTRO VALLEY | CA
TRANSWORLD MORTGAGE CORP | HOUSTON | TX
TRAVELERS INS CO | HARTFORD | CT
TRIANGLE BANK | ROCKY MOUNT | NC
TRINITY GROUP LLC | BOISE | ID
TRUMAN BANK HOME MORTGAGE | ST LOUIS | MO
TWENTYFIRST FINANCIAL INC | LOS ANGELES | CA
TWIN RIVERS COMMUNITY BANK | EASTON | PA
UFG MORTGAGE CORPORATION | CLINTON TOWNSHIP | MI
UNICOR FUNDING INC | MISSION VIEJO | CA
UNION BANCSHARES MORTGAGE CORP | HOLIDAY | FL
UNION BANK | BEULAH | ND
UNION BANK | KANSAS CITY | MO
UNION BANK OF ILLINOIS | SWANSEA | IL
UNITED BANK | DEL CITY | OK
UNITED COMMUNITY BANK | DANVILLE | IL
UNITED NATIONAL MORTGAGE LLC | FISHKILL | NY
UNITED POWERHOUSE FUNDING | ANAHEIM | CA
UNIVERSAL LENDING GROUP INC | SOUTHLAKE | TX
UNIVERSITY BANK | ANN ARBOR | MI
UNIVERSITY MORTGAGE INC | ANN ARBOR | MI
US FUNDING MORTGAGE CORPORATION INC | PITTSBURG | PA
USA MORTGAGE GROUP INC | LAFAYETTE | IN
V A STREAMLINE INC | CARLSBAD | CA
VADIS MORTGAGE CORPORATION | HOLLYWOOD | FL
VALENCIO MORTGAGE CORP | WINTER SPRINGS | FL
VALLEY FINANCIAL FUNDING LLC | PHOENIX | AZ
VALLEY OAKS NATIONAL BANK | SOLVANG | CA
VIKING MORTGAGE CORP | PINOLE | CA
VIKING MORTGAGE SERVICES INC | LANGHORNE | PA
VINTAGE TRUST MORTGAGE | SALEM | OR
W C FINANCIAL INC | SANTA ANA | CA
W CRISS PETERS ENTERPRISES INC | FORT LAUDERDALE | FL
WASHINGTON STATE BANK | FEDERAL WAY | WA
WELLS FARGO BANK NORTHWEST NA | SALT LAKE CITY | UT
WELLS FARGO FUNDING INC | BLOOMINGTON | MN
WEST END REALTY SERVICES | RANCHO CUCAMONGA | CA
WESTCO REAL ESTATE FINANCE | COSTA MESA | CA
WESTERN AND SOUTHERN LIFE INS CO | CINCINNATI | OH
WESTERN FEDERAL MORTGAGE INC | BELLEVUE | WA
WESTERN FINANCIAL SAVINGS BANK | IRVINE | CA
WESTSOUND BANK | BREMERTON | WA
WHITE MOUNTAINS SERVICES CORP | ANN ARBOR | MI
WHITLYN COMPANY | AUSTIN | TX
WHOLESALE MORTGAGE LENDERS LLC | SHREVEPORT | LA
WILSHIRE INTERNATIONAL FIN NETWORK INC | LOS ANGELES | CA
WINVEST MORTGAGE CORPORATION | LAUDERDALE LAKE | FL
WOOD FINANCIAL SERVICES COMPANY | BEND | OR
WOODMONT FINANCIAL SERVICES GROUP LLC | BRENTWOOD | TN
WOODSVILLE GUARANTY SAVINGS BANK | WOODSVILLE | NH
WORLD WIDE MONEY CENTER INC | SAN DIEGO | CA
WORLDNET FINANCIAL SERVICES INC | GREENSBORO | NC
XLN INC | NEWPORT BEACH | CA
YALE NEW HAVEN HEALTH FCU | NEW HAVEN | CT

Dated: March 27, 2003.
John C. Weicher,
Assistant Secretary for Housing-Federal Housing Commissioner, Chairman Mortgagee Review Board.

[FR Doc. 03-8276 Filed 4-4-03; 8:45 am]

BILLING CODE 4210-27-P